GENERAL SERVICES ADMINISTRATION

Maximum Per Diem Rates for the Continental United States (CONUS)

AGENCY: Office of Governmentwide Policy, General Services Administration (GSA).

ACTION: Notice of Per Diem Bulletin 10-01, Fiscal Year (FY) 2010 continental United States (CONUS) per diem rates.

SUMMARY: The General Services Administration's (GSA's) annual per diem review has resulted in lodging and meal allowance changes for locations within the continental United States (CONUS) to provide for the reimbursement of Federal employees' expenses covered by per diem. Per Diem Bulletin 10-01 updates the maximum per diem amounts in existing per diem localities. The CONUS per diem rates prescribed in Bulletin 10-01 may be found at http://www.gsa.gov/perdiem. GSA based the lodging per diem rates on the average daily rate that the lodging industry reports. The use of such data in the per diem rate setting process enhances the Government's ability to obtain policy-compliant lodging where it is needed. In conjunction with the annual lodging study, GSA identified three new non-standard areas (NSAs): Jefferson City (Cole County) and St. Robert (Pulaski County), Missouri; and Middlebury (Addison County), Vermont. The meals and incidental expense rates for all NSAs and for standard CONUS will also be updated.

For a complete listing of pertinent information that must be submitted through a Federal executive agency for GSA to restudy a location, or if a CONUS or standard CONUS per diem rate is insufficient to meet necessary expenses, please review numbers four and five of our per diem Frequently Asked Questions at (http://www.gsa.gov/perdiemfaqs).

DATES: This notice is effective October 1, 2009, and applies for travel performed on or after October 1, 2009 through September 30, 2010.

FOR FURTHER INFORMATION CONTACT: For clarification of content, contact Ms. Jill Denning, Office of Governmentwide Policy, Office of Travel, Transportation, and Asset Management, at (202) 208-7642, or by e-mail at http://www.gsa.gov/perdiemquestions. Please cite Notice of Per Diem Bulletin 10-01.

SUPPLEMENTARY INFORMATION:

A. Background

After an analysis of current data, GSA has determined that current lodging rates for certain localities do not adequately reflect the lodging economics in those areas. GSA used the same lodging rate setting methodology for establishing the FY 2010 per diem rates as when establishing the FY 2009 rates.

B. Change in Standard Procedure

GSA issues/publishes the CONUS per diem rates, formerly published in Appendix A to 41 CFR Chapter 301, solely on the Internet at http://www.gsa.gov/perdiem. This process, implemented in 2003, ensures more timely changes in per diem rates established by GSA for Federal employees on official travel within CONUS. Notices published periodically in the Federal Register, such as this one, now constitute the only notification of revisions in CONUS per diem rates to agencies.

Dated: August 20, 2009.
Becky Rhodes,
Deputy Associate Administrator.

[FR Doc. E9-20504 Filed 8-21-09; 4:15 pm]

BILLING CODE 6820-14-P